DEPARTMENT OF THE INTERIOR

Bureau of Land Management

[AK-930-03-1310-DO]

Notice of Intent to Prepare an Environmental Impact Statement on a Proposed Development of Oil Facilities in the National Petroleum Reserve—Alaska and the Colville River Delta

AGENCY: Bureau of Land Management; Alaska State Office, Interior.

ACTION: Notice of intent (NOI) to prepare an Environmental Impact Statement (EIS) for full field development in connection with ConocoPhillips's Alpine Satellite Development Program within the National Petroleum Reserve—Alaska (NPR-A) and in the Colville River Delta.

SUMMARY: This document provides notice that the Bureau of Land Management (BLM) Alaska State Office will be preparing a full field development EIS in connection with the ConocoPhillips Alpine Satellite Development Program. The BLM is the lead Federal agency in the development of this EIS. The United States Army Corps of Engineers (USACE), the Environmental Protection Agency (EPA), and the State of Alaska are cooperating agencies. The project area is located on the North Slope of Alaska in the Colville River Delta and in the northeast portion of the NPR-A.

This EIS will fulfill the needs and obligations set forth by the National Environmental Policy Act (NEPA), other relevant laws and regulations, and the management policies of the BLM, the USACE, EPA, and the State of Alaska. The BLM will work collaboratively with interested parties to identify the issues concerning the project that need to be addressed in the EIS, assure an appropriate range of alternatives, and develop mitigation that is suited to local, regional, and national needs and concerns. The public scoping process will help identify these issues, alternatives, and potential mitigation, as well as help provide resource, socio-economic, subsistence, and other valuable information for the development of the EIS.

DATES: This notice initiates the public scoping process. Scoping comments can be submitted in writing to the address listed below and will be accepted through March 31, 2003. All public meetings will be announced through the local news media, a mailing, and the web site developed for the project, http://www.alpine-satellites-eis.com.

Public Participation: In order to ensure local community participation and input, public scoping meetings will be held in Anchorage, Barrow, Fairbanks, and Nuiqsut. In addition to the scoping process, there will be opportunities for public participation and comment on the draft EIS.

ADDRESSES: Written comments may be mailed to Alpine Satellite Development Program EIS, Entrix, Inc., 3701 East Tudor Road, Suite 205, Anchorage, Alaska 99507; faxed to 907-563-0439; hand-delivered to Entrix, Inc., 3701 East Tudor Road, Suite 205, Anchorage, Alaska or to the BLM Public Information Center in the Federal Building, 222 W. 7th Avenue, Anchorage, Alaska; or forwarded electronically through the project website at http://www.alpine-satellites-eis.com. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION: For further information and/or to have your name added to our mailing list, contact Jim Ducker, Telephone 907-271-3130; email Jim_Ducker@blm.gov.

SUPPLEMENTARY AND BACKGROUND INFORMATION: The EIS will analyze the development proposal submitted by ConocoPhillips Alaska, Inc (CPAI). The company's proposal includes development of two oil and gas accumulations in the Colville Delta east of NPR-A and three accumulations within NPR-A. The EIS also will examine full field development of additional well sites and one or more new processing facilities within the field.

The development on Federal lands within NPR-A is subject to the management direction provided by BLM's Record of Decision for the Northeast National Petroleum Reserve-Alaska Integrated Activity Plan/Environmental Impact Statement (Northeast NPR-A IAP/EIS). The Record of Decision for this full field development EIS may amend the Northeast NPR-A IAP/EIS. Any amendment, including exceptions to requirements to the Northeast NPR-A IAP/EIS, would be limited to those necessary for the development authorized by BLM following completion of this EIS and will not constitute a general amendment of the Northeast NPR-A IAP/EIS.

CPAI currently operates their Alpine Central Processing Facility (ACPF) near Nuiqsut, Alaska. CPAI has proposed to develop oil and gas from five satellites. Two satellites known as CD-3 (CD North during exploration) and CD-4 (CD South) are in the Colville Delta. Three other proposed satellites known as CD-5, CD-6, and CD-7 (Alpine West, Lookout, and Spark, respectively, during exploration) are in the NPR-A. The CD-3 and CD-4 satellite locations involve lands owned, respectively, by the State of Alaska and by Kuukpik Corporation, a Native-owned corporation created by the Alaska Native Claims Settlement Act (ANCSA). The state and another ANCSA corporation, the Arctic Slope Regional Corporation (ASRC), own the oil and gas associated with these two satellites. CD-5 is proposed to be located within NPR-A on Kuukpik land and an ASRC oil and gas lease. CD-6 and CD-7 are located on oil and gas leases in the Northeast portion of NPR-A that are administered by the BLM.

CPAI's proposed development of CD-3 would consist of a gravel pad capable of supporting up to 32 wells. The site would also contain a gravel airstrip that would be used for access to the site. The proposed development of CD-4 would include a gravel pad capable of supporting up to 32 wells and the construction of a 3.6-mile gravel road that would connect the site to the Alpine facility. The proposed CD-5 would require a gravel pad capable of supporting 20-30 wells and the construction of approximately 3 miles of gravel road with a vehicle-capable bridge to cross the Nigliq Channel. The proposed CD-6 development would require a gravel pad capable of supporting up to 30 wells and the construction of approximately 10 miles of all weather gravel road that would connect to CD-5. The proposed CD-7 production site development would require a gravel pad capable of supporting up to 30 wells and the construction of approximately 6 miles of gravel road that would connect CD-6 and CD-7.

Utility lines would connect each of the satellite pads to ACPF. Oil and gas products produced at these sites would be transported by a pipeline to the ACPF and after processing the finished product would be transported through an existing pipeline to the Kuparuk facility and from Kuparuk through existing pipelines to the Trans-Alaska Pipeline System.

Henri R. Bisson,
State Director, Bureau of Land Management, Alaska State Office.

[FR Doc. 03-3821 Filed 2-14-03; 8:45 am]

BILLING CODE 4310-JA-P